DEPARTMENT OF ENERGY

Federal Energy Regulatory Commission

[Docket No. ER96-719-004, et al.]

MidAmerican Energy Company, et al.; Electric Rate and Corporate Filings

November 30, 2004.

The following filings have been made with the Commission. The filings are listed in ascending order within each docket classification.

1. MidAmerican Energy Company

[Docket No. ER96-719-004]

On November 23, 2004, MidAmerican Energy Company (MidAmerican) submitted a supplemental filing seeking to provide additional information relating to the compliance filing that MidAmerican previously submitted on October 29, 2004, pursuant to the Commission's Order on Market-Based Rate Authority, 108 FERC ¶ 61,043 (2004).

Comment Date: 5 p.m. Eastern Time on December 14, 2004.

2. La Paloma Generating Company LLC

[Docket No. ER00-107-002]

Take notice that on November 23, 2004, La Paloma Generating Company LLC (La Paloma Gen) filed with the Commission a notice of change in status in connection with the transfer of the ownership interests that were held indirectly by National Energy & Gas Transmission, Inc. in La Paloma Gen, which owns an approximately 1,040 MW combined cycle generating facility located near the town of McKittrick, California, to the creditors of La Paloma Gen.

Comment Date: 5 p.m. Eastern Time on December 14, 2004.

3. Delta Energy Center, LLC

[Docket No. ER03-510-003]

Take notice that on November 23, 2004, Delta Energy Center, LLC (Delta) submitted revised rate schedule sheets to Delta Rate Schedule FERC No. 2, consisting of a Reliability Must-Run Service Agreement and accompanying schedules.

Delta states that copies of the filing were served upon the California Independent System Operator Corporation, the California Public Utilities Commission, the California Electricity Oversight Board and Pacific Gas and Electric Company.

Comment Date: 5 p.m. Eastern Time on December 14, 2004.

4. American Electric Power

[Docket No. ER04-1049-001]

Take notice that on November 23, 2004, American Electric Power (AEP) submitted a compliance filing regarding the time value of refunds that AEP must make for any billing that may have occurred prior to the effective dates of the agreements referenced in the Commission's letter order issued on September 23, 2004, in docket number ER04-1049-000.

Comment Date: 5 p.m. Eastern Time on December 14, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-3557 Filed 12-7-04; 8:45 am]

BILLING CODE 6717-01-P